DEPARTMENT OF AGRICULTURE

Forest Service

Boundary Establishment for Ontonagon National Wild and Scenic River, Ottawa National Forest; Gogebic, Houghton, Iron, and Ontonagon Counties, Michigan

AGENCY: Forest Service, USDA.

ACTION: Notice of availability.

SUMMARY: In accordance with Section 3(b) of the Wild and Scenic Rivers Act, the USDA Forest Service, Washington Office, transmitted the final boundary of the Ontonagon National Wild and Scenic River to Congress.

FOR FURTHER INFORMATION CONTACT: Information may be obtained by contacting the Ottawa National Forest, E6248 US 2; Ironwood, MI; 49938; (906)-932-1330.

SUPPLEMENTARY INFORMATION: The Ontonagon Wild and Scenic River boundary is available for review at the following offices: USDA Forest Service, Lands, Yates Building, 14th and Independence Avenues SW, Washington, DC 20024; Eastern Region, 626 East Wisconsin Ave., Milwaukee, WI, 53202; and, Ottawa National Forest, E6248 US 2, Ironwood, MI, 49938.

The Michigan Scenic Rivers Act of 1991, Public Law 102-249, March 3, 1992, designated the Ontonagon River, Michigan, as a National Wild and Scenic River, to be administered by the Secretary of Agriculture. The USDA Forest Service transmitted the final boundary to Congress on March 2, 2017. As specified by law, the boundary became effective ninety days after Congress received the transmittal.

Dated: July 19, 2018.
Glenn P. Casamassa,
Associate Deputy Chief, National Forest System.

[FR Doc. 2018-16815 Filed 8-6-18; 8:45 am]

BILLING CODE 3411-15-P